Executive Order 13451 of November 19, 2007

Designating the ITER International Fusion Energy Organization as a Public International Organization Entitled To Enjoy Certain Privileges, Exemptions, and Immunities

By the authority vested in me as President by the Constitution and the laws of the United States of America, including section 1 of the International Organizations Immunities Act (22 U.S.C. 288), and finding that the United States participates in the ITER International Fusion Energy Organization under the authority of acts of Congress authorizing such participation and making an appropriation for such participation, including sections 971 and 972 of the Energy Policy Act of 2005 (42 U.S.C. 16311 and 16312) and laws making appropriations for the Department of Energy, it is hereby ordered as follows:

Section 1. Designation. I hereby designate the ITER International Fusion Energy Organization as a public international organization entitled to enjoy the privileges, exemptions, and immunities provided by the International Organizations Immunities Act.

Sec. 2. Non-Abridgement. This designation is not intended to abridge in any respect privileges, exemptions, or immunities that the ITER International Fusion Energy Organization otherwise may have acquired or may acquire by law.

THE WHITE HOUSE,

November 19, 2007.

[FR Doc. 07-5816

Filed 11-20-07; 10:06 am]

Billing code 3195-01-P